ENVIRONMENTAL PROTECTION AGENCY

[FRL-6853-9]

Agency Information Collection Activities; Submission of EPA ICR #1198.06 to OMB for Review and Approval; Comment Request

AGENCY: Environmental Protection Agency (EPA).

ACTION: Notice.

SUMMARY: In compliance with the Paperwork Reduction Act (44 U.S.C. 3501 et seq.), this notice announces that the Information Collection Request (ICR) entitled: Chemical-Specific Rules, TSCA Sec. 8(a) (EPA ICR #1198.06; OMB #2070-0067) has been forwarded to the Office of Management and Budget (OMB) for review and approval pursuant to 5 CFR 1320.12. The ICR, which is abstracted below, describes the nature of the information collection and its estimated cost and burden. A Federal Register notice announcing the Agency intent to seek OMB approval for this ICR and a 60-day public comment opportunity, requesting comments on the request and the contents of the ICR, was issued on May 19, 2000 (65 FR 31896). No comments were received on this ICR during the comment period.

DATES: Additional comments may be submitted on or before September 18, 2000.

ADDRESSES: Send comments, referencing EPA ICR No. 1198.06 and OMB Control No. 2070-0067, to the following addresses: Sandy Farmer, U.S. Environmental Protection Agency, Collection Strategies Division (Mail Code: 2822), 1200 Pennsylvania Avenue, N.W., Washington, DC 20460; and to: Office of Information and Regulatory Affairs, Office of Management and Budget (OMB), Attention: Desk Officer for EPA, 725 17th Street, N.W., Washington, DC 20503.

FOR FURTHER INFORMATION CONTACT: Sandy Farmer by phone at (202) 260-2740, or via e-mail at “farmer.sandy@epa.gov,” or download off the Internet at http://www.epa.gov/icr/icr.htm and refer to EPA ICR No. 1198.06.

SUPPLEMENTARY INFORMATION: Title: Chemical-Specific Rules, TSCA Sec. 8(a); OMB Control No. 2070-0067; EPA ICR No. 1198.06. This is a request for extension of an approved collection, currently expiring on August 31, 2000.

Abstract: Section 8(a) of the Toxic Substance Control Act (TSCA) authorizes the Administrator of EPA to promulgate rules that require persons who manufacture, import or process chemical substances and mixtures, or who propose to manufacture, import or process chemical substances and mixtures, to maintain such records and submit such reports to EPA as may be reasonably required. Any chemical covered by TSCA for which EPA or another Federal agency has a reasonable need for information and which cannot be satisfied via other sources is a proper potential subject for a chemical-specific TSCA section 8(a) rulemaking. Information that may be collected under TSCA section 8(a) includes, but is not limited to, chemical names, categories of use, production volume, byproducts of chemical production, existing data on deaths and environmental effects, exposure data and disposal information. Generally, EPA uses chemical-specific information under TSCA section 8(a) to evaluate the potential for adverse human health and environmental effects caused by the manufacture, importation, processing, use or disposal of identified chemical substances and mixtures. Additionally, EPA may use TSCA section 8(a) information to assess the need or set priorities for testing and/or further regulatory action. To the extent that reported information is not considered confidential, environmental groups, environmental justice advocates, state and local government entities and other members of the public will also have access to this information for their own use.

Responses to the collection of information are mandatory (see 40 CFR part 704). Respondents may claim all or part of a document confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 19, 2000 (65 FR 31896). EPA received no comments on this ICR during the comment period.

Burden Statement: The annual public reporting burden for this collection of information is estimated to average 69 hours per response. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Persons who manufacture, process or import, or propose to manufacture, process or import, chemical substances and mixtures.

Frequency of Collection: On occasion.

Estimated No. of Respondents: 4.

Estimated Total Annual Burden on Respondents: 275 hours.

Estimated Total Annual Non-labor Costs: $0.

Changes in Burden Estimates: There are no changes in the burden associated with this ICR since its last approval by OMB.

According to the procedures prescribed in 5 CFR 1320.12, EPA has submitted this ICR to OMB for review and approval. Any comments related to the renewal of this ICR should be submitted within 30 days of this notice, as described above.

Dated: August 14, 2000.
Oscar Morales,
Director, Collection Strategies Division.

[FR Doc. 00-21076 Filed 8-17-00; 8:45 am]

BILLING CODE 6560-50-P